NUCLEAR REGULATORY COMMISSION

Notice of Meeting of the Advisory Committee on Reactor Safeguards (ACRS) Subcommittee on Plant Operations and Fire Protection

The ACRS Subcommittee on Plant Operations and Fire Protection will hold a meeting on August 24, 2018 at U.S. Nuclear Regulatory Commission, 11545 Rockville Pike, Room T-2B1, Rockville, Maryland 20852.

The entire meeting will be open to public attendance. The agenda for the subject meeting shall be as follows:

Friday August 24, 2018—1:00 p.m. Until 5:00 p.m.

The Subcommittee will conduct an information briefing regarding the NRC Office of Nuclear Regulatory Research test plan for Phase 2 of its High Energy Arc Fault Test Program. The Subcommittee will hear presentations by and hold discussions with NRC staff and other interested persons regarding this matter. The Subcommittee will gather information, analyze relevant issues and facts, and formulate proposed positions and actions, as appropriate, for deliberation by the Full Committee.

Members of the public desiring to provide oral statements and/or written comments should notify the Designated Federal Official (DFO), Kent Howard (Telephone 301-415-2989 or Email: Kent.Howard@nrc.gov) five days prior to the meeting, if possible, so that appropriate arrangements can be made. Thirty-five hard copies of each presentation or handout should be provided to the DFO thirty minutes before the meeting. In addition, one electronic copy of each presentation should be emailed to the DFO one day before the meeting. If an electronic copy cannot be provided within this timeframe, presenters should provide the DFO with a CD containing each presentation at least thirty minutes before the meeting. Electronic recordings will be permitted only during those portions of the meeting that are open to the public. The public bridgeline number for the meeting is 866-822-3032, passcode 8272423. Detailed procedures for the conduct of and participation in ACRS meetings were published in the Federal Register on October 4, 2017 (82 FR 46312).

Detailed meeting agendas and meeting transcripts are available on the NRC website at http://www.nrc.gov/reading-rm/doc-collections/acrs. Information regarding topics to be discussed, changes to the agenda, whether the meeting has been canceled or rescheduled, and the time allotted to present oral statements can be obtained from the website cited above or by contacting the identified DFO. Moreover, in view of the possibility that the schedule for ACRS meetings may be adjusted by the Chairman as necessary to facilitate the conduct of the meeting, persons planning to attend should check with these references if such rescheduling would result in a major inconvenience.

If attending this meeting, please enter through the One White Flint North Building, 11555 Rockville Pike, Rockville, Maryland 20852. After registering with Security, please contact Mr. Theron Brown (Telephone 301-415-6702) to be escorted to the meeting room.

Date: August 2, 2018.
Mark L. Banks,
Chief, Technical Support Branch, Advisory Committee on Reactor Safeguards.

[FR Doc. 2018-17120 Filed 8-9-18; 8:45 am]

BILLING CODE 7590-01-P